DEPARTMENT OF AGRICULTURE

Submission for OMB Review; Comment Request

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by April 26, 2024 will be considered. Written comments and recommendations for the proposed information collection should be submitted within 30 days of the publication of this notice on the following website www.reginfo.gov/public/do/PRAMain. Find this particular information collection by selecting “Currently under 30-day Review—Open for Public Comments” or by using the search function. An agency may not conduct or sponsor a collection of information unless the collection of information displays a currently valid OMB control number and the agency informs potential persons who are to respond to the collection of information that such persons are not required to respond to the collection of information unless it displays a currently valid OMB control number.

Food and Nutrition Service

Title: WIC Participant and Program Characteristics 2024 & 2026 Study.

OMB Control Number: 0584-0609.

Summary of Collection: This is a reinstatement, with changes, of a previously approved information collection that was discontinued on 12/31/2022. This data collection effort for the Special Supplemental Nutrition Program for Women, Infants and Children Participant and Program Characteristics Study (WIC PC) is authorized by 7 CFR 246.25(b)(3) (2011). The Special Supplemental Nutrition Program for Women, Infants, and Children (WIC) is administered by the U.S. Department of Agriculture's (USDA) Food and Nutrition Service (FNS). WIC provides supplemental foods, health care referrals, breastfeeding promotion and support, and nutrition education to nutritionally at-risk, income-eligible pregnant, breastfeeding and non-breastfeeding postpartum women, infants, and children up to age five years. WIC is administered through 89 State agencies consisting of the 50 States, the District of Columbia, 5 territories, and 33 Indian Tribal Organizations (ITOs).

Since 1988, FNS has produced the biennial WIC Participant and Program Characteristics Study (PC) report that describes demographic, income, breastfeeding, and health-related information of a census of WIC participants as well as information on the benefits they receive through WIC. Data used to produce the PC reports are collected from participants by State agencies at the time of participant certification in WIC and then submitted to FNS biennially. FNS uses the regularly updated PC reports to evaluate the impact of the program, support State agencies, estimate budgets, submit civil rights reporting, identify research needs, and review current and proposed WIC policies and procedures.

Need and Use of the Information: The main purpose of this biennial data collection is to provide FNS with information on a census of WIC participants in April of the reporting years (2024 and 2026) to produce the biennial WIC PC 2024 and WIC PC 2026 reports. This study also will include two new data collection efforts that will enhance the utility of the traditional WIC PC data and allow for novel assessment of participant-level program retention, participant health outcomes over time, program utilization, and program cost. One effort will be the collection of up to four years total (two years for each round of WIC PC) of longitudinal, retrospective WIC PC data (longitudinal WIC PC data). The second element will consist of collecting longitudinal, retrospective data on participant redemption of the WIC food package benefits (longitudinal EBT data) from State agencies.

Description of Respondents: State, Local and Tribal Governments.

Number of Respondents: 356.

Frequency of Responses: Reporting: Biennially.

Total Burden Hours: 6,066.

Rachelle Ragland-Greene,
Acting Departmental Information Collection Clearance Officer.

[FR Doc. 2024-06494 Filed 3-26-24; 8:45 am]

BILLING CODE 3410-30-P